FEDERAL COMMUNICATIONS COMMISSION

47 CFR Part 73

[DA No. 00-654; MM Docket No. 99-61; RM-9448]

Radio Broadcasting Services; Polson, MT

AGENCY: Federal Communications Commission.

ACTION: Proposed rule; dismissal.

SUMMARY: This document dismisses a Petition for Rule Making filed by Mountain West Broadcasting requesting the allotment of Channel 259C3 at Polson, Montana. See 64 FR 8788, February 23, 1999. With this action, this proceeding is terminated.

FOR FURTHER INFORMATION CONTACT: Kathleen Scheuerle, Mass Media Bureau, (202) 418-2180.

SUPPLEMENTARY INFORMATION: This is a summary of the Commission's Report and Order, MM Docket No. 99-61, adopted March 15, 2000, and released March 24, 2000. The full text of this Commission decision is available for inspection and copying during normal business hours in the Commission's Reference Center, 445 Twelfth Street, SW, Washington, DC. The complete text of this decision may also be purchased from the Commission's copy contractors, International Transcription Services, Inc., 1231 20th Street, NW., Washington, DC. 20036, (202) 857-3800, facsimile (202) 857-3805.

Federal Communications Commission.
John A. Karousos,
Chief, Allocations Branch, Policy and Rules Division, Mass Media Bureau.

[FR Doc. 00-8173 Filed 4-3-00; 8:45 am]

BILLING CODE 6712-01-P